DEPARTMENT OF COMMERCE

Foreign-Trade Zones Board

[Dockets 60, 61 and 62-2011]

Foreign-Trade Zones 140 and 78, Applications for Subzone Authority Dow Corning Corporation, Hemlock Semiconductor Corporation, and Hemlock Semiconductor, L.L.C.; Reopening of Rebuttal Periods

The rebuttal periods for the applications for subzone authority at the Dow Corning Corporation facility in Midland, Michigan (76 FR 63282-63283, 10/12/2011), at the Hemlock Semiconductor Corporation facility in Hemlock, Michigan (76 FR 63282, 10/12/2011) and at the Hemlock Semiconductor, L.L.C. facility in Clarksville, Tennessee (76 FR 63281-63282, 10/12/2011) are being reopened. The rebuttal comments submitted on March 13, 2012 on behalf of the companies cited above contained new factual information on which there has not been a chance for public comment. The rebuttal period for the cases referenced above is being reopened to April 24, 2012, to allow interested parties to comment on the applicants' rebuttal submission. Submissions shall be addressed to the Board's Executive Secretary at: Foreign-Trade Zones Board, U.S. Department of Commerce, Room 2111, 1401 Constitution Ave. NW., Washington, DC 20230.

For further information, contact Elizabeth Whiteman at Elizabeth.Whiteman@trade.gov or (202) 482-0473.

Dated: April 3, 2012.
Elizabeth Whiteman,
Acting Executive Secretary.

[FR Doc. 2012-8490 Filed 4-6-12; 8:45 am]

BILLING CODE P